DEPARTMENT OF LABOR

Mine Safety and Health Administration

30 CFR Parts 56 and 57

[Docket No. MSHA-2014-0030]

RIN 1219-AB87

Examinations of Working Places in Metal and Nonmetal Mines

AGENCY: Mine Safety and Health Administration, Labor.

ACTION: Proposed rule; notice of change of starting time for public hearings.

SUMMARY: The Mine Safety and Health Administration (MSHA) is announcing a change to the starting time for public hearings for the proposed rule addressing Examinations of Working Places in Metal and Nonmetal Mines, published on June 8, 2016. The start time for the previously announced public hearings for the proposed rule will be changed from 9:00 a.m. to 8:30 a.m. to accommodate the public meetings on MSHA's request for information on Exposure of Underground Miners to Diesel Exhaust. The hearing dates and locations are unchanged.

DATES: The public hearing dates and locations are listed in the SUPPLEMENTARY INFORMATION section of this document. Comments for the proposed rule must be received by midnight Eastern Daylight Savings Time on September 6, 2016.

ADDRESSES: Comments, requests to speak, and informational materials for the rulemaking record may be sent to MSHA by one of the following methods listed below:

• Federal E-Rulemaking Portal: http://www.regulations.gov. Follow the on-line instructions for submitting comments.

• E-Mail: zzMSHA-comments@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Monday through Friday, except Federal holidays. Sign in at the receptionist's desk on the 4th Floor East, Suite 4E401.

• Fax: 202-693-9441.

FOR FURTHER INFORMATION CONTACT: Sheila A. McConnell, Director, Office of Standards, Regulations, and Variances, MSHA, at mcconnell.sheila.a@dol.gov (email), 202-693-9440 (voice); or 202-693-9441 (facsimile). These are not toll-free numbers.

SUPPLEMENTARY INFORMATION:

Instructions: All submissions for the proposed rule must include RIN 1219-AB87 or Docket No. MSHA-2014-0030. MSHA posts all comments without change, including any personal information provided. Access comments electronically on http://www.regulations.gov and on MSHA's Web site at https://www.msha.gov/regulations/rulemaking.

Docket: The proposed rule for Examinations of Working Places in Metal and Nonmetal Mines was published on June 8, 2016 (81 FR 36818). The document is available on https://www.regulations.gov and on MSHA's Web site at https://www.msha.gov/regulations/rulemaking/examinations-working-places-metal-and-nonmetal-mines. Review comments in person at the Office of Standards, Regulations, and Variances, 201 12th Street South, Suite 4E401, Arlington, Virginia 22202-5452. Sign in at the receptionist's desk on the 4th Floor East, Suite 4E401.

Email Notification: To subscribe to receive email notification when MSHA publishes rulemaking documents in the Federal Register, go to https://www.msha.gov.

Public Hearings: As previously announced on June 8, 2016 (81 FR 36818), the public hearings will be held in Salt Lake City, UT; Pittsburgh, PA; Arlington, VA; and Birmingham, AL. Please see the table below for locations, dates, and new starting times.

Date | Location | Contact number
July 19, 2016; 8:30 a.m. | Homewood Suites by Hilton, Salt Lake City—Downtown, 423 West 300 South, Salt Lake City, UT 84101 | (801) 363-6700.
July 21, 2016; 8:30 a.m. | Hyatt Place Pittsburgh—North Shore, 260 North Shore Drive, Pittsburgh, PA 15212 | (412) 321-3000.
July 26, 2016; 8:30 a.m. | Mine Safety and Health Administration Headquarters, 201 12th Street, South, Rooms 7W204 & 7W206, Arlington, VA 22202 | (202) 693-9440.
August 4, 2016; 8:30 a.m. | Sheraton Birmingham Hotel, 2101 Richard Arrington Jr., Boulevard North, Birmingham, AL 35203 | (205) 324-5000.

The start time for the previously announced public hearings for the proposed is being changed from 9:00 a.m. to 8:30 a.m. to accommodate the public meetings on MSHA's request for information on Exposure of Underground Miners to Diesel Exhaust. The hearings will begin with an opening statement from MSHA, followed by an opportunity for members of the public to make oral presentations. Each hearing will end when the last speaker speaks. Persons do not have to make a written request to speak; however, persons wishing to speak are encouraged to notify MSHA in advance for scheduling purposes.

Speakers and other attendees may present information to MSHA for inclusion in the rulemaking record. The hearings will be conducted in an informal manner. Formal rules of evidence or cross examination will not apply.

A verbatim transcript of the proceedings will be prepared and made a part of the rulemaking record. The transcript may be viewed at https://www.regulations.gov/ and on MSHA's Web site at https://www.msha.gov/regulations/rulemaking.

MSHA will accept comments and other appropriate information for the record from any interested party, including those not presenting oral statements, received by midnight Eastern Daylight Savings Time on September 6, 2016.

Joseph A. Main,
Assistant Secretary of Labor for Mine Safety and Health.

[FR Doc. 2016-15191 Filed 6-24-16; 8:45 am]

BILLING CODE 4520-43-P